DEPARTMENT OF COMMERCE

National Institute of Standards and Technology

Information Security and Privacy Advisory Board

AGENCY: National Institute of Standards and Technology, Department of Commerce.

ACTION: Notice of open meeting.

SUMMARY: National Institute of Standards and Technology (NIST)'s Information Security and Privacy Advisory Board (ISPAB) will hold an open meeting on Wednesday, November 6, 2024, from 10:00 a.m. until 4:30 p.m., Eastern Time and Thursday, November 7, 2024, from 10:00 a.m. until 4:30 p.m., Eastern Time.

DATES: The ISPAB will meet on Wednesday, November 6, 2024, from 10:00 a.m. until 4:30 p.m., Eastern Time and Thursday, November 7, 2024, from 10:00 a.m. until 4:30 p.m., Eastern Time.

ADDRESSES: The meeting will be held virtually via webinar. Please note participation instructions under the SUPPLEMENTARY INFORMATION section of this notice.

FOR FURTHER INFORMATION CONTACT: Jeff Brewer, ISPAB Designated Federal Official, National Institute of Standards and Technology, Telephone (301) 975-2489. Mr. Brewer's email address is jeffrey.brewer@nist.gov.

SUPPLEMENTARY INFORMATION:

Authority: The ISPAB was established to function solely as an advisory body, in accordance with the provisions of the Federal Advisory Committee Act, as amended, 5 U.S.C. 1001 et seq. The Board reports to the Director of NIST, and reports annually to the Secretary of Commerce, the Secretary of Homeland Security, the Director of the Office of Management and Budget, the Director of the National Security Agency, and appropriate committees of Congress. The Board is authorized under 15 U.S.C. 278g-4 and tasked with identifying emerging managerial, technical, administrative, and physical safeguard issues relative to information security and privacy.

Pursuant to the Federal Advisory Committee Act, as amended, 5 U.S.C. 1001 et seq., notice is hereby given that the ISPAB will hold an open meeting on the date and time in the DATES section and will be open to the public. Primary purpose of this meeting is to discuss and deliberate potential recommendations. The agenda may change to accommodate ISPAB business. The final agenda will be posted on the NIST website at https://csrc.nist.gov/Events/2024/ispab-november-2024-meeting, and is expected to include the following items:

—Board Introductions and Member Activities,

—Update on NIST's Information Technology Laboratory (ITL) Activities,

—Briefing from NIST on the NIST Security and Privacy Frameworks,

—Discussion on Cybersecurity Metrics and Measurements,

—Presentation and Discussion on Vulnerability Markets as a Metric,

—Briefing on Breach and Incident Response Notification,

—Presentation from NIST on Small Business Corner Project,

—Presentation by Industry on Common Weakness Enumerations (CWEs) and their Use,

—Update on the NIST Cybersecurity and Privacy Program,

—Update on the Request for Information on Privacy Impact Assessments,

—Public comments,

—Board Discussions and Recommendations.

Individuals and representatives of organizations who would like to offer comments and suggestions related to the Board's business are invited to request a place on the agenda. Approximately thirty minutes will be reserved for public comments and speaking times will be assigned on a first-come, first-serve basis. The amount of time per speaker will be determined by the number of requests received but is likely to be about five minutes each. Questions from the public will not be considered during this period. Speakers who wish to expand upon their oral statements, those who had wished to speak but could not be accommodated on the agenda, and those who were unable to participate are invited to submit written statements by email to jeffrey.brewer@nist.gov.

All participants will be attending via webinar and are required to pre-register to be admitted to the meeting. To register and receive detailed instruction on how to join the meeting, please submit your first and last name, email address, and company name via the registration link at https://csrc.nist.gov/Events/2024/ispab-november-2024-meeting, by 5 p.m. Eastern Time, November 5, 2024.

Alicia Chambers,
NIST Executive Secretariat.

[FR Doc. 2024-22401 Filed 9-27-24; 8:45 am]

BILLING CODE 3510-13-P